DEPARTMENT OF LABOR

Office of the Secretary

Submission for OMB Review; Comment Request

November 24, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting the Department of Labor. To obtain documentation, contact Darrin King on (202) 693-4129 (this is not a toll-free number) or E-Mail: king.darrin@dol.gov.

Comments should be sent to Office of Information and Regulatory Affairs, Attn: OMB Desk Officer for the Employment and Training Administration (ETA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Overpayment Detection and Recovery Activities.

OMB Number: 1205-0173

Affected Public: State, Local, or Tribal Government.

Type of Response: Reporting.

Frequency: Quarterly.

Number of Respondents: 53.

Annual Responses: 212.

Average Response Time: 14 hours.

Annual Burden Hours: 2,968.

Total Annual Costs (operating/maintaining systems or purchasing services): $0.

Description: The Form ETA-227 provides an accounting of the types and amounts of Unemployment Insurance (UI) overpayments and serves as a useful management tool for monitoring the overall integrity in the UI system.

Ira L. Mills,
Departmental Clearance Officer.

[FR Doc. 03-30078 Filed 12-2-03; 8:45 am]

BILLING CODE 4510-30-M